DEPARTMENT OF THE INTERIOR

National Park Service

[NPS-WASO-NAGPRA-27998; PPWOCRADN0-PCU00RP16.R50000]

Native American Graves Protection and Repatriation Review Committee Notice of Public Meeting

AGENCY: National Park Service, Interior.

ACTION: Meeting notice.

SUMMARY: The National Park Service is hereby giving notice that the Native American Graves Protection and Repatriation Review Committee (Review Committee) will meet as indicated below.

DATES: The Review Committee will meet on August 21-22, 2019, from 8:30 a.m. until approximately 5 p.m. in Fairbanks, Alaska.

ADDRESSES: The Review Committee will meet in the Arnold Espe Multimedia Auditorium, University of Alaska Museum of the North, 1962 Yukon Drive, Fairbanks, AK 99775. Electronic submissions of materials or requests are to be sent to nagpra_info@nps.gov.

FOR FURTHER INFORMATION CONTACT: Melanie O'Brien, Designated Federal Officer, National Native American Graves Protection and Repatriation Act Program (2253), National Park Service, telephone (202) 354-2201, or email nagpra_info@nps.gov.

SUPPLEMENTARY INFORMATION: The Review Committee was established in section 8 of the Native American Graves Protection and Repatriation Act of 1990 (NAGPRA). Information about NAGPRA, the Review Committee, and Review Committee meetings is available on the National NAGPRA Program website at https://www.nps.gov/nagpra.

Purpose of the Meeting: The agenda will include a report from the National NAGPRA Program; the discussion of the Review Committee Report to Congress; subcommittee reports and discussion; and other topics related to the Review Committee's responsibilities under section 8 of NAGPRA; and public comments. In addition, the agenda may include requests to the Review Committee for a recommendation to the Secretary of the Interior that an agreed-upon disposition of Native American human remains proceed; and presentations by Indian tribes, Native Hawaiian organizations, museums, Federal agencies, associations, and individuals. Presentation to the Review Committee by telephone may be requested but is not guaranteed. The agenda and materials for this meeting will be posted on or before July 22, 2019, at https://www.nps.gov/nagpra. The meeting is open to the public and there will be time for public comment.

General Information

The Review Committee is responsible for monitoring the NAGPRA inventory and identification process; reviewing and making findings related to the identity or cultural affiliation of cultural items, or the return of such items; facilitating the resolution of disputes; compiling an inventory of culturally unidentifiable human remains that are in the possession or control of each Federal agency and museum, and recommending specific actions for developing a process for disposition of such human remains; consulting with Indian tribes and Native Hawaiian organizations and museums on matters affecting such tribes or organizations lying within the scope of work of the Review Committee; consulting with the Secretary of the Interior on the development of regulations to carry out NAGPRA; and making recommendations regarding future care of repatriated cultural items. The Review Committee's work is carried out during the course of meetings that are open to the public.

The Review Committee is soliciting presentations from Indian tribes, Native Hawaiian organizations, museums, and Federal agencies on the following two topics: (1) The progress made, and any barriers encountered, in implementing NAGPRA and (2) the outcomes of disputes reviewed by the Review Committee pursuant to 25 U.S.C. 3006 (c)(4). The Review Committee also will consider other presentations from Indian tribes, Native Hawaiian organizations, museums, Federal agencies, associations, and individuals. A presentation request must, at minimum, include an abstract of the presentation and contact information for the presenter(s). Written comments will be accepted from any party and provided to the Review Committee.

The Review Committee will consider requests for a recommendation to the Secretary of the Interior that an agreed-upon disposition of Native American human remains proceed. A disposition request must include specific information and, as applicable, ancillary materials. For details on the required information go to https://www.nps.gov/nagpra/Review.

Contact the Designated Federal Officer to discuss requests for findings of fact related to the identity or cultural affiliation of human remains or other cultural items, or the return of such items; or requests to facilitate the resolution of disputes.

Deadlines for submissions and requests can be found at https://www.nps.gov/nagpra/review/announcements.htm. Submissions and requests should be sent to nagpra_info@nps.gov. Such items are subject to posting on the National NAGPRA Program website prior to the meeting.

Public Disclosure of Comments: Before including your address, telephone number, email address, or other personal identifying information in your comments, you should be aware that your entire comment—including your personal identifying information—may be made publicly available at any time. While you can ask us in your comment to withhold your personal identifying information from public review, we cannot guarantee that we will be able to do so.

Authority: 5 U.S.C. Appendix 2; 25 U.S.C. 3006.

Alma Ripps,
Chief, Office of Policy.

[FR Doc. 2019-14354 Filed 7-3-19; 8:45 am]

BILLING CODE 4312-52-P